DEPARTMENT OF TRANSPORTATION

Federal Aviation Administration

14 CFR Part 39

[Docket No. FAA-2009-0218; Directorate Identifier 2009-CE-006-AD]

RIN 2120-AA64

Airworthiness Directives; Piper Aircraft, Inc. PA-23, PA-31, and PA-42 Series Airplanes

AGENCY: Federal Aviation Administration (FAA), Department of Transportation (DOT).

ACTION: Notice of proposed rulemaking (NPRM).

SUMMARY: We propose to adopt a new airworthiness directive (AD) for certain Piper Aircraft, Inc. (Piper) PA-23 series airplanes and all PA-31 and PA-42 series airplanes. This proposed AD would establish life limits for safety-critical nose baggage door components. This proposed AD would also require you to replace those safety-critical nose baggage door components and repetitively inspect and lubricate the nose baggage door latching mechanism and lock assembly. This proposed AD results from several incidents and accidents, including fatal accidents, where the nose baggage door opening in flight was listed as a causal factor. We are proposing this AD to detect and correct worn, corroded, or non-conforming nose baggage door components, which could result in the nose baggage door opening in flight. The door opening in flight could significantly affect the handling and performance of the aircraft. It could also allow baggage to be ejected from the nose baggage compartment and strike the propeller. This failure could lead to loss of control.

DATES: We must receive comments on this proposed AD by May 11, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Piper Aircraft, Inc., 2926 Piper Drive, Vero Beach, Florida 32960; telephone: (772) 567-4361; fax: (772) 978-6573; Internet: http://www.newpiper.com/company/publications.asp.

FOR FURTHER INFORMATION CONTACT: Gregory K. Noles, Aerospace Engineer, One Crown Center, 1895 Phoenix Blvd., Suite 450, Atlanta, Georgia 30349; telephone: (770) 703-6085; fax: (770) 703-6097.

SUPPLEMENTARY INFORMATION:

Comments Invited

We invite you to send any written relevant data, views, or arguments regarding this proposed AD. Send your comments to an address listed under the ADDRESSES section. Include the docket number, “FAA-2009-0218; Directorate Identifier 2009-CE-006-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

On January 5, 2008, a Piper PA-31-350 airplane crashed shortly after takeoff. The National Transportation Safety Board preliminary report of the fatal accident indicates the nose baggage door opened in flight. Our investigation of the accident indicates the nose baggage door opening in flight was a causal factor in the accident. The investigation also indicated that the baggage door did not conform to the type design and was not in a condition for safe operation. We have also received several other incident and accident reports where the nose baggage door opening in flight was listed as a causal factor.

Our investigation of PA-31 airplanes has found additional nonconforming nose baggage door components. Examples of problems discovered are: key locks that have been replaced with locks that allow the key to be removed when the door is unlocked; bent, corroded, worn, or broken parts; parts installed backwards; inoperative warning systems; and installation of secondary latches that are not strong enough to secure the door in a closed position.

This condition, if not corrected, could result in the nose baggage door opening in flight. The door opening in flight could significantly affect the handling and performance of the aircraft. It could also allow baggage to be ejected from the nose baggage compartment and strike the propeller. This failure could lead to loss of control.

Relevant Service Information

We have reviewed Piper Aircraft, Inc. Service Bulletin No. 1194A, dated November 10, 2008.

The service information describes procedures for:

• Repetitive inspection of the nose baggage door latching mechanism and lock assembly and replacement of life limited parts as identified in the service bulletin; and

• Repetitive lubrication and inspection of the nose baggage door latching and locking components.

FAA's Determination and Requirements of the Proposed AD

We are proposing this AD because we evaluated all information and determined the unsafe condition described previously is likely to exist or develop on other products of the same type design. This proposed AD would require you to replace safety-critical nose baggage door components and repetitively inspect and lubricate the nose baggage door latching mechanism and lock assembly. This proposed AD would also establish life limits for safety-critical nose baggage door components.

Differences Between This Proposed AD and the Service Information

The applicability of this AD is expanded to include Models PA-23, PA-23-160, and PA-23-235 airplanes that have a nose baggage door installed. These models were not manufactured with a nose baggage door and are not included in Piper Aircraft, Inc. Service Bulletin No. 1194A, dated November 10, 2008. However there are PA-23, PA-23-160, and PA-23-235 airplanes in service that may have been modified with the applicable nose baggage door installed. The requirements of this proposed AD, if adopted as a final rule, would take precedence over the provisions in the service information.

Costs of Compliance

We estimate that this proposed AD would affect 8,000 airplanes in the U.S. registry.

We estimate the following costs to do the proposed inspection and parts replacement:

Labor cost | Parts cost | Total cost per airplane | Total cost on U.S. operators
4 work-hours × $80 per hour = $320 | $190 | $510 | $4,080,000

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Piper Aircraft, Inc.: Docket No. FAA-2009-0218; Directorate Identifier 2009-CE-006-AD.

Comments Due Date

(a) We must receive comments on this airworthiness directive (AD) action by May 11, 2009.

Affected ADs

(b) None.

Applicability

(c) This AD applies to Models PA-23, PA-23-160, PA-23-235, PA-23-250, PA-23-250 (Navy UO-1), PA-31, PA-31-300, PA-31-325, PA-31-350, PA-31P, PA-31P-350, PA-31T, PA-31T1, PA-31T2, PA-31T3, PA-42, PA-42-720, PA-42-1000, and PA-E23-250 airplanes, all serial numbers, that are:

(1) Certificated in any category; and

(2) Equipped with a baggage door in the fuselage nose section (a nose baggage door).

Unsafe Condition

(d) This AD results from several incidents and accidents, including some fatal accidents, where the nose baggage door opening in flight was listed as a causal factor. We are issuing this AD to detect and correct worn, corroded, or non-conforming nose baggage door components, which could result in the nose baggage door opening in flight. The door opening in flight could significantly affect the handling and performance of the aircraft. It could also allow baggage to be ejected from the nose baggage compartment and strike the propeller. This failure could lead to loss of control.

Compliance

(e) To address this problem, you must do the following, unless already done:

Actions | Compliance | Procedures
(1) For all aircraft: (i) Inspect the nose baggage door assembly for damaged, worn, or corroded components; (ii) Replace life-limited components specified in the service information; and (iii) Install or inspect, as applicable, the nose baggage placard following the service information. | (A) Initially: Within 1,000 hours time-in-service (TIS) since all life-limited components were installed new following Piper Aircraft, Inc. Service Bulletin No. 1194A, dated November 10, 2008, or within the next 100 hours TIS after the effective date of this AD, whichever occurs later; and (B) Repetitively thereafter: At intervals not to exceed 1,000 hours TIS. | Follow INSTRUCTIONS: PART I of Piper Aircraft, Inc. Service Bulletin No. 1194A, dated November 10, 2008.
(2) For all aircraft: (i) Lubricate and inspect all nose baggage door latching and locking components for damaged, worn, or corroded components; and (ii) Verify the key can only be removed from the lock assembly in the locked position in accordance with the service instructions. | (A) Initially: Within 100 hours TIS after the effective date of this AD; and (B) Repetitively thereafter: At intervals not to exceed 100 hours TIS. | Follow INSTRUCTIONS: PART II of Piper Aircraft, Inc. Service Bulletin No. 1194A, dated November 10, 2008.
(3) For all aircraft with damaged, worn, or corroded components: Repair/replace any damaged, worn, or corroded components. | Before further flight after any inspection required in paragraphs (e)(1) and (e)(2) of this AD where any evidence of damaged, worn, or corroded components was found. | Follow Piper Aircraft, Inc. Service Bulletin No. 1194A, dated November 10, 2008.

Alternative Methods of Compliance (AMOCs)

(f) The Manager, Atlanta Aircraft Certification Office (ACO), FAA, has the authority to approve AMOCs for this AD, if requested using the procedures found in 14 CFR 39.19. Send information to Attn: Gregory K. Noles, Aerospace Engineer, One Crown Center, 1895 Phoenix Blvd., Suite 450, Atlanta, Georgia 30349; telephone: (770) 703-6085; fax: (770) 703-6097. Before using any approved AMOC on any airplane to which the AMOC applies, notify your appropriate principal inspector (PI) in the FAA Flight Standards District Office (FSDO), or lacking a PI, your local FSDO.

Related Information

(g) To get copies of the service information referenced in this AD, contact Piper Aircraft, Inc., 2926 Piper Drive, Vero Beach, Florida 32960; telephone: (772) 567-4361; fax: (772) 978-6573; Internet: http://www.newpiper.com/company/publications.asp. To view the AD docket, go to U.S. Department of Transportation, Docket Operations, M-30, West Building Ground Floor, Room W12-140, 1200 New Jersey Avenue, SE., Washington, DC 20590, or on the Internet at http://www.regulations.gov.

Issued in Kansas City, Missouri, on March 3, 2009.
David R. Showers,
Acting Manager, Small Airplane Directorate, Aircraft Certification Service.

[FR Doc. E9-4987 Filed 3-9-09; 8:45 am]

BILLING CODE 4910-13-P